SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA). The PRA requires agencies to submit proposed reporting and recordkeeping requirements to the Office of Management and Budget (OMB) for review and approval, and to publish a notice in the Federal Register notifying the public that the agency has made such a submission. This notice also allows an additional 30 days for public comments.

DATES: Submit comments on or before October 11, 2019.

ADDRESSES: Comments should refer to the information collection by name and/or by OMB Control Number 3245-0394. Comments should be sent to: Agency Clearance Officer, Curtis Rich, Small Business Administration, 409 3rd Street SW, 5th Floor, Washington, DC 20416; and to SBA Desk Officer, Office of Information and Regulatory Affairs, Office of Management and Budget, New Executive Office Building, Washington, DC 20006.

FOR FURTHER INFORMATION CONTACT: Curtis Rich, Agency Clearance Officer, (202) 205-7030, curtis.rich@sba.gov.

Copies: A copy of the OMB Form 83-1, supporting statement, and other documents submitted to OMB for review may be obtained from the Agency Clearance Officer.

SUPPLEMENTARY INFORMATION: The Emerging Leaders Initiative aims to assist established small businesses located in historically challenged communities with increasing their sustainability, attracting outside investment, and strengthening each community's economic base by creating jobs and providing valuable goods and services. As part of its efforts to carry out this objective, SBA offers eligible business executives a 7-month intensive course focused on the skills essential to develop their companies, expand their resource networks, and increase their confidence and motivation. The course is designed to be hands-on and is composed of classroom sessions, out-of-class preparation work, and executive mentoring groups where participants can discuss their challenges. A broad range of topics is covered in the curriculum, including financial measures of business health, strategies for marketing, access to funding, and employee management and recruitment.

SBA conducts annual performance-monitoring activities to assess the short- and intermediate-term outcomes of participants in the Emerging Leaders Initiative. SBA uses the three survey instruments described below to collect the assessment information from the participants in each training cohort. The broad outcomes assessed include the participants' satisfaction with the course, changes in their business' economic outcomes, such as loans obtained and jobs created, and changes in management behavior.

Solicitation of Public Comments

The required 60-day notice soliciting public comment on this information collection was published in the Federal Register on March 7, 2019, at 84 FR 8360. No comments were received. The public is again invited to submit any comments to the persons identified above and by the due date stated in the DATES section of this notice.

Overview of Collection

Title: “Emerging Leaders Initiatives”.

OMB Control Number: 3245-0394.

Description of Respondents: Established small businesses located in historically challenged communities.

Summary of the Collection: The collection consists of three instruments: (1) The intake assessment is administered at the start of the program to document baseline conditions; (2) A satisfaction-oriented feedback survey is administered at the end of the program; and (3) An annual outcome-oriented survey that is administered about three years after program completion. The latter instrument is intended to document changes in key outcomes over a longer period, because job growth, revenue growth, profitability, and other economic outcomes of program participation are expected to manifest in the intermediate and long terms.

Form Number: N/A.

Estimated Annual Respondents and Responses: 4,332.

Estimated Annual Hour Burden: 1,519.

William Wolchak,
Director, Records Management Division.

[FR Doc. 2019-19639 Filed 9-10-19; 8:45 am]

BILLING CODE 8026-03-P